COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and a service to the Procurement List that will be furnished by nonprofit agencies employing persons who are blind or have other severe disabilities.

DATES: Comments Must Be Received on or Before: 1/14/2013.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to Procurement List for production by the nonprofit agencies listed:

Products

NSN: MR 1146—Serving Set, Stand and Bowl, 16oz.

NPA: Industries for the Blind, Inc., West Allis, WI.

Contracting Activity: Military Resale-Defense Commissary Agency (DeCA), Fort Lee, VA.

Coverage: C-List for the requirements of military commissaries and exchanges as aggregated by the Defense Commissary Agency.

NSN: 7510-00-NIB-1886—Tape, Vinyl Backing, Rubber Adhesive, Yellow, 36 yds.

NSN: 7510-00-NIB-1891—Tape, Safety Stripe, Rubber Adhesive, Black/Yellow, 36 yds.

Coverage: A-List for the Total Government Requirement as aggregated by the General Services Administration.

NSN: 7510-00-NIB-1890—Tape, Safety Stripe, Rubber Adhesive, Black/White, 36 yds.

Coverage: B-List for the Broad Government Requirement as aggregated by the General Services Administration.

NPA: Cincinnati Association for the Blind, Cincinnati, OH.

Contracting Activity: General Services Administration, New York, NY.

Service

Service Type/Location: Water System Hydrant Maintenance, Joint Base Lewis-McChord, WA.

NPA: Skookum Educational Programs, Bremerton, WA.

Contracting Activity: Dept of the Army, W6QM MICC-JB Lewis-McChord, Fort Lewis, WA.

Barry S. Lineback,
Director, Business Operations.

[FR Doc. 2012-30174 Filed 12-13-12; 8:45 am]

BILLING CODE 6353-01-P